DEPARTMENT OF COMMERCE

National Oceanic and Atmospheric Administration

RIN 0648-XD816

Fisheries of the Caribbean, Gulf of Mexico, and South Atlantic; Reef Fish Fishery of the Gulf of Mexico; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the Mississippi Department of Marine Resources (MS DMR). If granted, the EFP would authorize the applicant to collect red drum in Federal waters using state of MS-licensed charter and headboat vessels (for-hire vessels). The purpose of this study is to collect population data specific to the genetics, age and growth, reproduction, and food habits of adult red drum in Federal waters where harvest is currently prohibited. The data would then be used to support future stock assessment information for red drum.

DATES: Comments must be received no later than April 23, 2015.

ADDRESSES: You may submit comments on the application by any of the following methods:

• Email: 0648.XD816.Red.Drum.EFP@noaa.gov. Include in the subject line of the email comment the following document identifier: “MS Red Drum_EFP”.

• Mail: Steve Branstetter, Southeast Regional Office, NMFS, 263 13th Avenue South, St. Petersburg, FL 33701.

The application and related documents are available for review upon written request to any of the above addresses.

FOR FURTHER INFORMATION CONTACT: Steve Branstetter, 727-824-5305; email: Steve.Branstetter@noaa.gov.

SUPPLEMENTARY INFORMATION: The EFP is requested under the authority of the Magnuson-Stevens Fishery Conservation and Management Act (16 U.S.C. 1801 et seq.), and regulations at 50 CFR 600.745(b) concerning exempted fishing.

The harvest and possession of red drum in the Federal waters of the Gulf of Mexico (Gulf) has been prohibited since 1988 (53 FR 24662, June 29, 1988). The harvest and possession prohibition was implemented to protect the Gulf red drum stock from overfishing. The Gulf of Mexico Fishery Management Council (Council) is currently discussing whether to modify or remove this harvest and possession prohibition, but data regarding the adult red drum in Gulf Federal waters is limited. The existing population data is not representative of the Gulf red drum population as a whole as it mainly consists of younger and smaller red drum samples obtained from state waters where harvest is permitted.

The proposed collection for scientific research involves activities that would be prohibited by regulations at 50 CFR part 622, as they pertain to red drum managed by the Council. Specifically, the EFP requests exemption from Federal regulations at § 622.92 (Prohibited species) that prohibit the harvest and possession of red drum in Gulf Federal waters.

The applicant requests authorization through the EFP to allow state of MS-licensed for-hire vessels to have a recreational bag and possession limit of one red drum per person per trip from Federal waters. There would be no size limits applicable for the red drum collected through this EFP. Additionally, the red drum bag and possession limits for captain and crew of any for-hire vessel participating in this study would be zero.

Beginning in the fall of 2015, the applicant requests to collect a maximum of 30,000 lb (13,608 kg) of red drum during a 2-year period. The 30,000 lb (13,608 kg) is equivalent to approximately 2,000 red drum or about 1,000 red drum per each year of the study. According to MS DMR, as many as 70 for-hire vessels would be a part of the study. For any vessel trip that plans to harvest red drum, the vessel would be required to hail-in and hail-out with a representative of MS DMR using an existing MS DMR electronic reporting format. A representative of MS DMR would then meet the vessel that has red drum onboard harvested from Federal waters to collect sample information. The applicant would monitor the amount of red drum collected to ensure that the 30,000 lb (13,608 kg) sample limit is not exceeded. After biological sampling by MS DMR is completed for each red drum landed by participating for-hire vessels, recreational fishers from the for-hire vessel would be allowed to retain the red drum as recreational harvest. All red drum collected through this study would be harvested during regular for-hire trips using hook-and-line gear in Gulf Federal waters. A MS-licensed for-hire vessel would not be permitted to fish for or possess either Gulf reef fish species or coastal migratory pelagic species unless that vessel also had a Federal charter vessel/headboat permit for the applicable species. It is not anticipated that the study will increase any overall fishing effort in the Gulf.

Samples to be collected by the applicant include biological material for red drum population genetics, age and growth, reproduction, and food habits analyses of adult red drum in Federal waters. Some specific information to be collected include using molecular techniques to identify possible meta-populations and genetic structure, stomach content analysis, tissue analysis, several length measurements, otolith sampling, and histology analysis.

The research data are intended to provide better life history information to assist with any future red drum stock assessments and to assist the Council with future management decisions.

NMFS finds this application warrants further consideration. Possible conditions the agency may impose on this permit, if it is indeed granted, include but are not limited to, a prohibition of conducting research within marine protected areas, marine sanctuaries, or special management zones, without additional authorization. A report on the research would be due at the end of the collection period, to be submitted to NMFS and reviewed by the Council.

A final decision on issuance of the EFP will depend on NMFS' review of public comments received on the application, consultations with appropriate fishery management agencies of the affected states, the Council, and the U.S. Coast Guard, as well as a determination that it is consistent with all applicable laws.

Authority: 16 U.S.C. 1801 et seq.

Dated: March 18, 2015.
Emily H. Menashes,
Acting Director, Office of Sustainable Fisheries, National Marine Fisheries Service.

[FR Doc. 2015-06661 Filed 3-23-15; 8:45 am]

BILLING CODE 3510-22-P